DEPARTMENT OF ENERGY

[FE Docket Nos. 00-60-NG, 02-03-NG, 02-04-NG, 97-70-NG, and 02-05-NG]

Office of Fossil Energy; Dominion Exploration Canada Ltd., Domcan Boundary Corp., Petrocom Energy Group, Ltd., Enbridge Services Inc., Select Energy New York, Inc. (Formerly Niagara Mohawk Energy Marketing, Inc.), Gasoducto Rosarito, S. DE R.L. DE C. V.; Orders Granting and Amending Authority To Import and Export Natural Gas

AGENCY: Office of Fossil Energy, DOE.

ACTION: Notice of orders.

SUMMARY: The Office of Fossil Energy (FE) of the Department of Energy gives notice that during February 2002, it issued Orders granting and amending authority to import and export natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on March 12, 2002.
Yvonne Caudillo,
Acting Manager, Natural Gas Regulation, Office of Natural Gas & Petroleum Import & Export Activities, Office of Fossil Energy.

Appendix

Orders Granting and Amending Import/Export Authorizations
DOE/FE AUTHORITY
Order No. | Date issued | Importer/Exporter FE Docket No. | Import volume | Export volume | Comments
1626-A | 2-8-02 | Dominion Exploration Canada Ltd. Domcan Boundary Corp., 00-60-NG |  |  | Amendment to blanket import authority changing managing partner of the partnership.
1755 | 02-13-02 | Petrocom Energy Group, Ltd., 02-03-NG | 7.3 Bcf, 7.3 Bcf | 7.3 Bcf, 7.3 Bcf | Import and export natural gas from and to Canada, and import and export natural gas from and to Mexico, beginning on February 14, 2002, and extending through February 13, 2004.
1756 | 02-21-02 | Enbridge Services Inc., 02-04-NG | 200 Bcf | 200 Bcf | Import and export natural gas from and to Canada, beginning on March 1, 2002, and extending through February 29, 2004.
1303-B | 02-21-02 | Select Energy New York, Inc. (Formerly Niagara Mohawk Energy Marketing, Inc.), 97-70-NG |  |  | Amendment to blanket import and export authority reflecting name change.
1757 | 02-26-02 | Gasoducto Rosarito, S. de C. V., 02-05-NG |  | 155 Bcf | Export natural gas to Mexico, beginning on April 1, 2002, and extending through March 31, 2004.

[FR Doc. 02-6423 Filed 3-15-02; 8:45 am]

BILLING CODE 6450-01-P